DEPARTMENT OF TRANSPORTATION

Federal Aviation Administration

14 CFR Part 71

[Docket No. FAA-2013-0954; Airspace Docket No. 13-AGL-35]

Amendment of Class D Airspace; St. Paul, MN

AGENCY: Federal Aviation Administration (FAA), DOT.

ACTION: Final rule, correction.

SUMMARY: This action amends a typographical error in a final rule correction published in the Federal Register of May 8, 2014, amending the geographic coordinates of South St. Paul Municipal Airport-Richard E. Fleming Field, St. Paul, MN, in Class D airspace.

DATES: Effective date: 0901 UTC, May 29, 2014. The Director of the Federal Register approves this incorporation by reference action under 1 CFR Part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76137; telephone 817-321-7716.

SUPPLEMENTARY INFORMATION:

History

On May 8, 2014, a final rule, correction was published in the Federal Register (FR 79 26365) Docket No. FAA-2013-0954, correcting the latitude coordinate of a final rule technical amendment published in the Federal Register of March 4, 2014 (79 FR 12050), for South St. Paul Municipal Airport-Richard E. Fleming Field, St. Paul, MN, in Class D airspace. Subsequent to publication, the FAA found the longitude coordinate (93°01′58″) was added in error along with the edited latitude coordinate. This action corrects that error.

Correction to Final Rule Correction

Accordingly, pursuant to the authority delegated to me, in the Federal Register of May 8, 2014 (79 FR 26365) FR Doc. 2014-09881, the latitude coordinate in the regulatory text on page 26365, column 2, line 12, is corrected as follows:

§ 71.1 [Amended]

AGL MN D St. Paul, MN [Corrected]

Remove (Lat. 44°51′26″ N., 93°01′58″ W.) and add in its place (Lat. 44°51′26″ N.)

Issued in Fort Worth, Texas, on May 15, 2014.
Kent M. Wheeler,
Manager, Operations Support Group, ATO Central Service Center.

[FR Doc. 2014-11856 Filed 5-21-14; 8:45 am]

BILLING CODE P